OFFICE OF PERSONNEL MANAGEMENT

Excepted Service

AGENCY: Office of Personnel Management (OPM).

ACTION: Notice.

SUMMARY: This notice identifies Schedule A, B, and C appointing authorities applicable to a single agency that were established or revoked from December 1, 2018 to December 31, 2018.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during December 2018.

Schedule B

No Schedule B Authorities to report during December 2018.

Schedule C

The following Schedule C appointing authorities were approved during December 2018.

Agency name | Organization name | Position title | Authorization No. | Effective date
DEPARTMENT OF AGRICULTURE | Office of Rural Housing Service | Policy Advisor | DA190029 | 12/11/2018
|  | Congressional Advisor | DA190039 | 12/20/2018
| Farm Service Agency | State Executive Director | DA190028 | 12/20/2018
| Office of Natural Resources Conservation Service | Policy Advisor | DA190021 | 12/17/2018
| Office of the Assistant Secretary for Congressional Relations | Congressional Advisor | DA190030 | 12/11/2018
| Office of the Assistant To the Secretary for Rural Development | Confidential Assistant | DA190037 | 12/20/2018
| Office of the Secretary | Advance Lead | DA190020 | 12/17/2018
|  | Confidential Assistant | DA180178 | 12/20/2018
DEPARTMENT OF COMMERCE | Patent and Trademark Office | Special Advisor for Communications | DC190021 | 12/17/2018
| Office of Director General of the United States and Foreign Commercial Service and Assistant Secretary for Global Markets | Senior Advisor for External Affairs | DC190031 | 12/20/2018
DEPARTMENT OF DEFENSE | Office of the Secretary of Defense | Protocol Officer | DD190021 | 12/20/2018
| Office of the General Counsel | Attorney-Advisor (General) | DD190022 | 12/20/2018
DEPARTMENT OF EDUCATION | Office of Communications and Outreach | Confidential Assistant (3) | DB190028 DB190027 DB190041 | 12/12/2018 12/20/2018 12/20/2018
| Office of Elementary and Secondary Education | Confidential Assistant (2) | DB190037 DB190044 | 12/12/2018 12/20/2018
| Office of Legislation and Congressional Affairs | Special Assistant Confidential Assistant | DB190032 DB190030 | 12/11/2018 12/13/2018
|  | Director, Office of Legislation and Congressional Affairs | DB190049 | 12/21/2018
| Office of Postsecondary Education | Special Assistant | DB190016 | 12/03/2018
| Office of Special Education and Rehabilitative Services | Special Assistant | DB190036 | 12/12/2018
| Office of the Deputy Secretary | Confidential Assistant | DB190018 | 12/12/2018
|  | Confidential Assistant | DB190043 | 12/20/2018
| Office of the General Counsel | Attorney Adviser (4) | DB190038 | 12/03/2018
|  |  | DB190033 | 12/13/2018
|  |  | DB190031 | 12/17/2018
|  |  | DB190011 | 12/26/2018
| Office of the Secretary | Confidential Assistant (4) | DB190021 | 12/12/2018
|  |  | DB190024 | 12/13/2018
|  |  | DB190022 | 12/17/2018
|  |  | DB190023 | 12/17/2018
|  | Director, White House Liaison | DB190034 | 12/13/2018
|  | Special Assistant | DB190025 | 12/13/2018
| Office of the Under Secretary | Executive Director, Center for Faith and Opportunity Initiatives | DB190029 | 12/13/2018
|  | Confidential Assistant | DB190017 | 12/17/2018
DEPARTMENT OF ENERGY | Office of Scheduling and Advance | Scheduling Coordinator | DE190029 | 12/20/2018
| Office of Economic Impact and Diversity | Senior Advisor on Minority Education | DE180146 | 12/21/2018
ENVIRONMENTAL PROTECTION AGENCY | Office of the Assistant Administrator for Land and Emergency Management | Attorney-Adviser (General) | EP190014 | 12/20/2018
| Office of the Assistant Administrator for Water | Attorney-Adviser (General) | EP190015 | 12/13/2018
| Office of the Associate Administrator for Congressional and Intergovernmental Relations | Director for Oversight Special Advisor for the Office of Congressional Affairs | EP190004 EP180079 | 12/04/2018 12/20/2018
| Region VII—Lenexa, Kansas | Renewable Fuels Advisor | EP190013 | 12/11/2018
GENERAL SERVICES ADMINISTRATION | Office of Governmentwide Policy | Senior Advisor for Governmentwide Policy | GS190012 | 12/20/2018
DEPARTMENT OF HEALTH AND HUMAN SERVICES | Office of the Secretary | Advisor | DH190026 | 12/11/2018
| Office of the Assistant Secretary for Legislation | Deputy Assistant Secretary for Legislation for Discretionary (Public Health and Science) | DH190030 | 12/17/2018
| Office of Intergovernmental and External Affairs | Regional Director, New York, New York, Region II | DH180172 | 12/20/2018
DEPARTMENT OF HOMELAND SECURITY | Office of the General Counsel Office of the Assistant Secretary for Policy | Oversight Counsel Confidential Assistant for Border, Immigration and Trade Policy | DM190046 DM190045 | 12/11/2018 12/20/2018
| Office of United States Customs and Border Protection | Oversight Counsel | DM190058 | 12/20/2018
DEPARTMENT OF HOUSING AND URBAN DEVELOPMENT | Office of the Administration | Advance Coordinator | DU190020 | 12/20/2018
| Office of Housing | Deputy Assistant Secretary for Operations | DU190021 | 12/20/2018
DEPARTMENT OF THE INTERIOR | Office of the Assistant Secretary—Indian Affairs | Special Assistant | DI190005 | 12/13/2018
| Office of the Solicitor | Counselor | DI190009 | 12/17/2018
DEPARTMENT OF JUSTICE | Office of Public Affairs | Chief Speechwriter and Media Affairs Specialist | DJ190024 | 12/11/2018
DEPARTMENT OF LABOR | Office of Bureau of International Labor Affairs | Policy Advisor | DL180127 | 12/21/2018
OFFICE OF MANAGEMENT AND BUDGET | Office of Natural Resource Programs | Confidential Assistant | BO190004 | 12/17/2018
SECURITIES AND EXCHANGE COMMISSION | Office of the Chairman | Senior Policy Adviser, Regulatory Reporting | SE190001 | 12/11/2018
DEPARTMENT OF STATE | Office of Policy Planning | Staff Assistant | DS190015 | 12/17/2018
DEPARTMENT OF TRANSPORTATION | Office of the Assistant Secretary for Governmental Affairs | Senior Governmental Affairs Officer | DT180082 | 12/11/2018
| Office of the Assistant Secretary for Transportation Policy | Director of Public Engagement | DT190005 | 12/13/2018
| Office of the Secretary | Special Assistant for Strategic Initiatives | DT190009 | 12/13/2018
|  | Senior Advisor | DT190007 | 12/17/2018
DEPARTMENT OF VETERANS AFFAIRS | Office of the Secretary and Deputy | White House Liaison Special Assistant | DV190013 DV190014 | 12/11/2018 12/11/2018

The following Schedule C appointing authorities were revoked during December 2018.

Agency name | Organization name | Position title | Request No. | Date vacated
DEPARTMENT OF AGRICULTURE | Office of the Assistant Secretary for Congressional Relations | Senior Advisor | DA170186 | 12/08/2018
| Office of the Secretary | Staff Assistant | DA180143 | 12/08/2018
| Office of Rural Housing Service | State Director—Florida | DA180074 | 12/09/2018
DEPARTMENT OF EDUCATION | Office of Elementary and Secondary Education | Confidential Assistant | DB180045 | 12/08/2018
| Office of the Under Secretary | Special Assistant (Supervisory) | DB180008 | 12/22/2018
| Office of the Deputy Secretary | Confidential Assistant | DB180048 | 12/22/2018
| Office of the Secretary | Confidential Assistant | DB180049 | 12/22/2018
DEPARTMENT OF ENERGY | Office of Management | Senior Congressional Correspondence Advisor | DE180068 | 12/08/2018
| Office of the Assistant Secretary for Congressional and Intergovernmental Affairs | Director of External Affairs | DE170225 | 12/22/2018
| Office of National Nuclear Security Administration | Director of Congressional Affairs | DE180110 | 12/22/2018
| Office of Economic Impact and Diversity | Special Advisor | DE180033 | 12/22/2018
| Office of the Secretary of Energy Advisory Board | Deputy Director, Office of Secretarial Boards and Councils | DE180029 | 12/29/2018
DEPARTMENT OF HEALTH AND HUMAN SERVICES | Office of Global Affairs Office of Administration for Children and Families | Chief of Staff Confidential Assistant | DH170307 DH180164 | 12/08/2018 12/18/2018
| Office of the Secretary | Policy Advisor | DH180177 | 12/22/2018
DEPARTMENT OF HOUSING AND URBAN DEVELOPMENT | Office of Fair Housing and Equal Opportunity | Senior Advisor | DU170159 | 12/09/2018
DEPARTMENT OF JUSTICE | Office of Public Affairs | Media Affairs Specialist | DJ180036 | 12/15/2018
|  | Program Event Press Specialist | DJ180061 | 12/15/2018
DEPARTMENT OF THE TREASURY | Department of the Treasury | Deputy Chief of Staff | DY170145 | 12/10/2018
DEPARTMENT OF TRANSPORTATION | Office of the Assistant Secretary for Governmental Affairs | Senior Governmental Affairs Officer | DT180083 | 12/28/2018
ENVIRONMENTAL PROTECTION AGENCY | Office of the Associate Administrator for Congressional and Intergovernmental Relations | Special Assistant to the Deputy Associate Administrator for Congressional Relations | EP170063 | 12/22/2018
SMALL BUSINESS ADMINISTRATION | Office of Field Operations | Regional Administrator for Region X | SB170045 | 12/11/2018
| Office of Administration | Director of Scheduling and External Affairs | SB180014 | 12/21/2018

Authority: 5 U.S.C. 3301 and 3302; E.O. 10577, 3 CFR, 1954-1958 Comp., p. 218.

Office of Personnel Management.
Alexys Stanley,
Regulatory Affairs Analyst.

[FR Doc. 2019-13937 Filed 6-28-19; 8:45 am]

BILLING CODE 6325-39-P